DEPARTMENT OF COMMERCE

National Oceanic and Atmospheric Administration

50 CFR Part 648

[Docket No. 020620152-2152-01; I.D. 061102A]

RIN 0648-AQ11

Fisheries of the Northeastern United States; Atlantic Mackerel, Squid, and Butterfish Fisheries; Control Date for Atlantic Mackerel

AGENCY: National Marine Fisheries Service (NMFS), National Oceanic and Atmospheric Administration (NOAA), Commerce.

ACTION: Advance notice of proposed rulemaking; notice of control date for the purposes of controlling entry in the Atlantic mackerel fishery.

SUMMARY: NMFS announces that it is considering, and is seeking public comment on, proposed rulemaking to control future access to the Atlantic mackerel (Scomber scombrus) resource if a management regime is developed and implemented under the Magnuson-Stevens Fishery Conservation and Management Act (Magnuson-Stevens Act) that limits the number of participants in the fishery. This announcement is intended, in part, to promote awareness of potential eligibility criteria for future access so as to discourage speculative entry into the fishery while the Mid-Atlantic Fishery Management Council (Council) and NMFS consider whether and how access to the Atlantic mackerel fishery should be controlled. The date of publication of this notification, July 5, 2002, shall be known as the “control date” and may be used for establishing eligibility criteria for determining levels of future access to the Atlantic mackerel fishery subject to Federal authority.

DATES: Written comments must be received on or before 5 p.m., local time, August 5, 2002.

ADDRESSES: Written comments should be directed to Daniel T. Furlong, Executive Director, Mid-Atlantic Fishery Management Council, 300 South New Street, Dover, DE 19904-6790. Mark the outside of the envelope, “Comments on Atlantic Mackerel Control Date.” Comments also may be sent via facsimile (fax) to (302) 674-5399. Comments will not be accepted if submitted via e-mail or Internet.

FOR FURTHER INFORMATION CONTACT: Paul H. Jones, Fishery Policy Analyst, 978-281-9273, fax 978-281-9135, e-mail paul.h.jones@noaa.gov.

SUPPLEMENTARY INFORMATION: Atlantic mackerel (Scomber scombrus) is a migratory species that supports important recreational and commercial fisheries along the Atlantic coast of the United States and Canada. The most recent stock assessment (SAW 30, 2000) concluded that the stock biomass is at high levels and is under exploited. The Council developed the Fishery Management Plan for Atlantic Mackerel, Squid, and Butterfish (FMP) to provide for the development of the U.S. Atlantic mackerel, squid, and butterfish (MSB) fisheries. An initial notice establishing a control date of August 13, 1992 (1992 control date), was issued for the MSB fisheries (57 FR 36384, August 13, 1992), which stated that as of that date no vessel would be guaranteed entry into a limited access fishery, if the Council chose to implement one. This 1992 control date was rescinded for Atlantic mackerel on September 27, 1994 (59 FR 49235), because the Council and NMFS believed that information regarding biomass levels, fishing levels, fishing effort, and catch indicated that the Atlantic mackerel fishery would not require limited-entry management in the foreseeable future. Removal of the 1992 control date also removed a disincentive to accessing this underutilized resource for vessel owners who were facing severe restrictions in other Northeast fisheries.

In Amendment 5 to the FMP, the Council included a provision that would require the Secretary of Commerce to publish a control date for the Atlantic mackerel fishery when commercial landings reached 50 percent of allowable biological catch. NMFS did not include this provision in the proposed rule because, as explained in the preamble to that rule (60 FR 65618, December 20, 1995), it was not considered a management measure to be implemented by regulation. Rather, it was viewed as a statement of Council intent. NMFS further noted that the Council could recommend the publication of a control date when it deemed the action necessary. At its May 1997 meeting, the Council requested that NMFS issue an advance notice of proposed rulemaking reestablishing a control date for Atlantic mackerel. The Council intended the control date to discourage new vessels from entering the fishery speculatively while the Council considered implementing a management program for this fishery that would control the rate on capitalization in the fishery. Amendment 5 to the FMP estimated that the hold capacity for vessels issued MSB permits approached 50,000 mt if each vessel made just one trip at full capacity. The Council members noted that this capacity, combined with reports that a large factory trawler might enter the fishery, raised concerns because the estimate of long-term potential yield for the fishery was 150,000 mt. Further, both NMFS and the Council had indicated that first preference for entry into this fishery should be afforded to Northeast region vessels as an alternative to traditional fisheries that have been severely overfished. For these reasons, the Council voted to request publication of a second control date for Atlantic mackerel.

A second control date of September 12, 1997 (62 FR 48047)(1997 control date), was established to discourage speculative entry into the Atlantic mackerel fishery while potential management regimes to control access into the fishery were discussed and possibly developed by the Council. The Council intended to consider a controlled access plan in an amendment to the FMP, however, subsequent amendments focused on other issues, including the need to address the requirements of the 1996 Sustainable Fisheries Act.

The Council recently adopted a recommendation for an increase in the 2003 Domestic Annual Processing (DAP) specification for Atlantic mackerel to 150,000 mt. This three fold increase in the DAP specification compared with specifications in previous years was based on testimony from members of the harvesting and processing sectors of the Atlantic mackerel industry who indicated that there is significant interest in expansion of domestic shore-side processing for Atlantic mackerel in 2003. While the proposed increase in DAP for 2003 is consistent with the FMP and current stock condition, the Council is concerned about rapid expansion of harvest capacity in the fishery and possible overcapitalization. In addition, the Council is concerned that nearly five years have passed since the 1997 control date was published. The Council requested at its April 2002 meeting that a new control date for the Atlantic mackerel fisher y be published.

Publication of this July 5, 2002, control date is intended to discourage speculative entry into the Atlantic mackerel fishery while potential management regimes to control access into the fishery are discussed and possibly developed by the Council. Establishment of a new control date will help to distinguish established participants from speculative entrants to the fishery. Although participants are notified that entering the fishery after this new control date will not assure them of future access to the Atlantic mackerel resource on the grounds of previous participation, additional and/or other qualifying criteria also may be applied. The Council may choose different and variably weighted methods to qualify fishermen, based on the type and length of participation in the fishery or on the quantity of landings. This notice establishes July 5, 2002, for potential use in determining historical or traditional participation in the Atlantic mackerel fishery. This action does not commit the Council to develop any particular management regime or to use any specific criteria for determining entry to the fishery. The Council may choose a different control date, or may choose a management program that does not make use of such a date. The Council may choose also to take no further action to control entry or access to the fishery. Any action by the Council will be taken pursuant to the requirements for FMP development established under the Magnuson-Stevens Act.

This notification also gives the public notice that interested participants should locate and preserve records that substantiate and verify their participation in the Atlantic mackerel fishery in Federal waters.

Authority: 16 U.S.C. 1801 et seq.

Dated: June 28, 2002.
William T. Hogarth,
Assistant Administrator for Fisheries, National Marine Fisheries Service.

[FR Doc. 02-16813 Filed 7-3-02; 8:45 am]

BILLING CODE 3510-22-S